DEPARTMENT OF HEALTH AND HUMAN SERVICES

Administration for Children and Families

Proposed Information Collection Activity; Center for States Evaluation Ancillary Data Collection (0970-0501)

AGENCY: Children's Bureau, Administration on Children, Youth and Families, Administration for Children and Families, HHS.

ACTION: Request for public comment.

SUMMARY: The Administration for Children and Families (ACF) is requesting a 3-year extension of the collection of information under the Center for States Evaluation Ancillary Data Collection (OMB #0970-0501, expiration date 8/31/2020) without changes.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: The Evaluation of the Child Welfare Capacity Building Collaborative, Center for States is sponsored by the Children's Bureau (CB), ACF. The purpose of this evaluation is to respond to a set of cross-cutting evaluation questions posed by CB. This existing information collection is an ancillary part of a larger data collection effort being conducted for the evaluation of the Child Welfare Capacity Building Collaborative (0970-0484 and 0970-0494). This notice details a group of instruments that are specific only to the Center for States. The instruments focus on (1) evaluating an innovative approach to engaging professionals in networking and professional development through virtual conferences, (2) understanding fidelity to and effectiveness of the Center for States' Capacity Building Model, and (3) capturing consistent information during the updated annual assessment process focused on related contextual issues impacting potential service delivery such as implementation of new legislation.

Respondents: Respondents of these data collection instruments will include child welfare agency staff and stakeholders who directly receive services.

Annual Burden Estimates
Instrument | Total number of respondents | Total number of responses per respondent | Average burden hours per response | Total burden hours | Annual burden hours
Child Welfare Virtual Conference:
Child Welfare Virtual Conference Session Surveys | 450 | 6 | .08 | 216 | 72
Child Welfare Virtual Conference Focus Group Guide | 30 | 1 | 1 | 30 | 10
Child Welfare Virtual Conference Interview Guide | 20 | 1 | .5 | 10 | 3
Child Welfare Virtual Conference Registration Form | 1000 | 1 | .03 | 30 | 10
Child Welfare Virtual Conference Exit Survey | 225 | 1 | .16 | 36 | 12
Tailored Services Capacity Building Approach:
Tailored Services Practice Model Survey | 130 | 1 | .12 | 15.6 | 5
Assessment Observation— Group Debrief | 50 | 1 | .25 | 12.5 | 4
Service Delivery and Tracking and Adjustment Observation—Group Debrief | 80 | 1 | .25 | 20 | 7
Assessment and Service Delivery State Lead Interviews—Supplemental Questions | 30 | 1 | .5 | 15 | 5
Assessment questions:
Annual Assessment Update (8 systematic questions) | 54 | 1 | .08 | 4.32 | 1
Total |  |  |  |  | 130

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 203 of Section II: Adoption Opportunities of the Child Abuse Prevention and Treatment Act (CAPTA) (42 U.S.C. 5113).

Molly B. Jones,
ACF/OPRE Certifying Officer.

[FR Doc. 2020-10906 Filed 5-19-20; 8:45 am]

BILLING CODE 4184-01-P